DEPARTMENT OF LABOR

Employment and Training Administration

Workforce Information Advisory Council (WIAC)

AGENCY: Employment and Training Administration, Labor.

ACTION: Notice of meeting.

SUMMARY: Pursuant to Section 308 of the Workforce Innovation and Opportunity Act of 2014 (WIOA) (Pub. L. 113-128), which amends section 15 of the Wagner-Peyser Act of 1933 (29 U.S.C. 491-2), notice is hereby given that the WIAC meet on November 16 and 17, 2016. The meeting will take place at the Bureau of Labor Statistics (BLS) Janet Norwood Training and Conference Center in Washington, DC. The WIAC was established in accordance with provisions of the Federal Advisory Committee Act (FACA), as amended (5 U.S.C. App.) and will act in accordance with the applicable provisions of FACA and its implementing regulation at 41 CFR 102-3. The meeting will be open to the public.

DATES: The meeting will take place on Wednesday, November 16 and Thursday, November 17, 2016 from 9:00 a.m. to 4:30 p.m. Public statements and requests for special accommodations or to address the Advisory Council must be received by November 9, 2016.

ADDRESSES: The meeting will be held at the BLS Janet Norwood Training and Conference Center, Rooms 9 and 10, in the Postal Square Building at 2 Massachusetts Ave. NE., Washington, DC 20212.

FOR FURTHER INFORMATION CONTACT: Steven Rietzke, Chief, Division of National Programs, Tools, and Technical Assistance, Employment and Training Administration, U.S. Department of Labor, Room C-4510, 200 Constitution Ave. NW., Washington, DC 20210; Telephone: 202-693-3912. Mr. Rietzke is the Designated Federal Officer for the WIAC.

SUPPLEMENTARY INFORMATION: Background: The WIAC is an important component of the Workforce Innovation and Opportunity Act. The WIAC is a Federal Advisory Committee of workforce and labor market information experts representing a broad range of national, State, and local data and information users and producers. The purpose of the WIAC is to provide recommendations to the Secretary of Labor, working jointly through the Assistant Secretary for Employment and Training and the Commissioner of Labor Statistics, to address: (1) The evaluation and improvement of the nationwide workforce and labor market information (WLMI) system and statewide systems that comprise the nationwide system; and (2) how the Department and the States will cooperate in the management of those systems. These systems include programs to produce employment- related statistics and State and local workforce and labor market information.

The Department of Labor anticipates the WIAC will accomplish its objectives by: (1) Studying workforce and labor market information issues; (2) seeking and sharing information on innovative approaches, new technologies, and data to inform employment, skills training, and workforce and economic development decision making and policy; and (3) advising the Secretary on how the workforce and labor market information system can best support workforce development, planning, and program development. Additional information is available at www.doleta.gov/wioa/wiac/.

Purpose: The WIAC is currently in the process of identifying and reviewing issues and aspects of the WLMI system and statewide systems that comprise the nationwide system and how the Department and the States will cooperate in the management of those systems. As part of this process, the Advisory Council meets to gather information and to engage in deliberative and planning activities to facilitate the development and provision of its recommendations to the Secretary in a timely manner.

Agenda: Beginning at 9:00 a.m. on November 16, 2016, the Advisory Council will briefly review the minutes of the previous meeting held July 13 and 14, 2016. The Advisory Council will then hear briefings from members on the current WLMI systems and its customers, and begin to discuss where and how improvements can be made to the existing WLMI system. The meeting will end for the day at 4:30 p.m.

The meeting will resume at 9:00 a.m. on November 17, 2016. The second day will continue the previous day's discussions, with the goal of outlining the next steps for drafting recommendations for making improvements to the WLMI systems. The Advisory Council will open the floor for public comment at 1:00 p.m. on November 17, 2016. However, the precise schedule of events is subject to change and an up-to-date agenda will be available on WIAC's Web page (see URL below) prior to the meeting. The second day will conclude with a discussion of next steps, including action items and planning for the next meeting of the Advisory Council.

The meeting will adjourn at 4:30 p.m.

The full agenda for the meeting, and changes or updates to the agenda, will be posted on the WIAC's Web page, www.doleta.gov/wioa/wiac/.

Attending the meeting: BLS is located in the Postal Square Building, the building that also houses the U.S. Postal Museum, at 2 Massachusetts Ave. NE., Washington, DC. You must have a picture ID to be admitted to the BLS offices at Postal Square Building, and you must enter through the Visitors' Entrance. The BLS Visitors' Entrance is on First Street, NE., mid-block, across from Union Station. Members of the public who require reasonable accommodations to attend the meeting may submit requests for accommodations by mailing them to the person and address indicated in the FOR FURTHER INFORMATION CONTACT section by the date indicated in the DATES section or transmitting them as email attachments in PDF format to the email address indicated in the FOR FURTHER INFORMATION CONTACT section with the subject line “November WIAC Meeting Accommodations” by the date indicated in the DATES section. Please include a specific description of the accommodations requested and phone number or email address where you may be contacted if additional information is needed to meet your request.

Public statements: Organizations or members of the public wishing to submit written statements may do so by mailing them to the person and address indicated in the FOR FURTHER INFORMATION CONTACT section by the date indicated in the DATES section or transmitting them as email attachments in PDF format to the email address indicated in the FOR FURTHER INFORMATION CONTACT section with the subject line “November WIAC Meeting Public Statements” by the date indicated in the DATES section. Submitters may include their name and contact information in a cover letter for mailed statements or in the body of the email for statements transmitted electronically. Relevant statements received before the date indicated in the DATES section will be included in the record of the meeting. No deletions, modifications, or redactions will be made to statements received, as they are public records. Please do not include personally identifiable information (PII) in your public statement.

Requests to Address the Advisory Council: Members of the public or representatives of organizations wishing to address the Advisory Council should forward their requests to the contact indicated in the FOR FURTHER INFORMATION CONTACT section, or contact the same by phone, by the date indicated in the DATES section. Oral presentations will be limited to 10 minutes, time permitting, and shall proceed at the discretion of the Council chair. Individuals with disabilities, or others, who need special accommodations, should indicate their needs along with their request.

Portia Wu,
Assistant Secretary, Employment and Training Administration.

[FR Doc. 2016-26047 Filed 10-27-16; 8:45 am]

BILLING CODE 4510-FN-P